DEPARTMENT OF HOMELAND SECURITY

Coast Guard

[Docket No. USCG-2022-0706]

Great Lakes Pilotage Advisory Committee Meeting; February 2023 Meeting

AGENCY: U.S. Coast Guard, Department of Homeland Security.

ACTION: Notice of Federal advisory committee meeting.

SUMMARY: The Great Lakes Pilotage Advisory Committee (Committee) will meet in Covington, Louisiana, to discuss matters relating to Great Lakes Pilotage, including review of proposed Great Lakes Pilotage regulations and policies. The meeting will be open to the public.

DATES:

Meeting: The Committee will meet on Wednesday, February 8, 2023, from 8 a.m. to 5:30 p.m. Central Standard Time (CST). Please note that this meeting may adjourn early if the Committee has completed its business.

Comments and supporting documentations: To ensure your comments are received by Committee members before the meeting, submit your written comments no later than February 1, 2023.

ADDRESSES: The meeting will be held at the Covington Firehouse Event Center, 432 N Theard Street, Covington, LA, 70433; https://covla.com/city-departments/facilities/.

Pre-registration Information: Pre-registration is not required for access to the meeting. Attendees at the meeting will be required to follow COVID-19 safety guidelines promulgated by the Centers for Disease Control and Prevention (CDC), which may include the need to wear masks. CDC guidance on COVID protocols can be found here: https://www.cdc.gov/coronavirus/2019-ncov/communication/guidance.html.

The Great Lakes Pilotage Advisory Committee is committed to ensuring all participants have equal access regardless of disability status. If you require reasonable accommodation due to a disability to fully participate, please email Mr. Francis Levesque at Francis.R.Levesque@uscg.mil or call (571) 308-4941 as soon as possible.

Instructions: You are free to submit comments at any time, including orally at the meeting, but if you want Committee members to review your comment before the meeting, please submit your comments no later than February 1, 2023. We are particularly interested in comments regarding the topics in the “Agenda” section below. We encourage you to submit comments through the Federal eRulemaking Portal at: https://www.regulations.gov. If your material cannot be submitted using https://www.regulations.gov contact the individual in the FOR FURTHER INFORMATION CONTACT section of this document for alternate instructions. You must include the docket number [USCG-2022-0706]. Comments received will be posted without alteration at https://www.regulations.gov including any personal information you provided. You may wish to view the Privacy and Security Notice found via link https://www.regulations.gov. For more about the privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comment, will be in our online docket at https://www.regulations.gov and can be viewed by following that website's instructions. Additionally, if you go to the online docket and sign-up for email alerts, you will be notified when comments are posted.

FOR FURTHER INFORMATION CONTACT: Mr. Frank Levesque, Alternate Designated Federal Officer of the Great Lakes Pilotage Advisory Committee, telephone (571) 308-4941 or email Francis.R.Levesque@uscg.mil.

SUPPLEMENTARY INFORMATION: Notice of this meeting is in compliance with the Federal Advisory Committee Act (5 U.S.C. appendix). The Committee is established under the authority of 46 U.S.C. 9307 and makes recommendations to the Secretary of Homeland Security and the U.S. Coast Guard on matters relating to Great Lakes pilotage, including review of proposed Great Lakes pilotage regulations and policies.

Agenda: The Great Lakes Pilotage Advisory Committee will meet on Wednesday, February 8, 2023, to review, discuss, deliberate and formulate recommendations, as appropriate on the following topics:

1. Value of Great Lakes Pilotage Advisory Committee Meetings.

2. The date a pilot is counted in the rate.

3. Number of pilots needed.

4. Winter navigation.

5. Best Practices.

6. 2023 Annual Rule Update.

7. Expense and Revenue Report Update.

8. Modernization Rulemaking Update.

9. Staffing Model.

10. Discussion of the 2013 Memorandum of Understanding between U.S. Coast Guard and Canada.

11. Public Comments.

A copy of all meeting documentation will be available at https://www.dco.uscg.mil/Our-Organization/Assistant-Commandant-for-Prevention-Policy-CG-5P/Marine-Transportation-Systems-CG-5PW/Office-of-Waterways-and-Ocean-Policy/Great-Lakes-Pilotage-Advisory-Committee/ no later than February 22, 2023. Alternatively, you may contact Mr. Frank Levesque as noted in the FOR FURTHER INFORMATION CONTACT section above.

Public comments or questions will be taken throughout the meeting as the Committee discusses the issues and prior to deliberations and voting. There will also be a public comment period at the end of the meeting. Speakers are requested to limit their comments to 5 minutes. Contact the individual listed in the FOR FURTHER INFORMATION CONTACT section above, to register as a speaker.

Dated: December 29, 2022.
Michael D. Emerson,
U.S. Coast Guard, Headquarters, Director, Marine Transportation Systems.

[FR Doc. 2022-28636 Filed 1-4-23; 8:45 am]

BILLING CODE 9110-04-P